DEPARTMENT OF THE INTERIOR

Fish and Wildlife Service

Recovery Plan for Kneeland Prairie Penny-Cress (Thlaspi californicum)

AGENCY: Fish and Wildlife Service, Interior.

ACTION: Notice of document availability.

SUMMARY: We, the U.S. Fish and Wildlife Service, announce the availability of the final Recovery Plan for Kneeland Prairie Penny-cress (Thlaspi californicum). The plan includes specific criteria and measures to be taken in order to effectively recover the species to the point where delisting is warranted.

ADDRESSES: Copies of the recovery plan are available by written request addressed to the Field Supervisor, Arcata Fish and Wildlife Office, 1655 Heindon Road, Arcata, California. For a fee, recovery plans may also be obtained from: Fish and Wildlife Reference Service, 5430 Grosvenor Lane Suite 110, Bethesda, Maryland 20814, 301-429-6403 or 1-800-582-3421. The fee for copies of a plan depends on the number of pages of the plan. An electronic copy of this recovery plan is also available at http://www.r1.fws.gov/ecoservices/endangered/recovery/default.htm.

FOR FURTHER INFORMATION CONTACT: David Imper, Fish and Wildlife Ecologist, at the above Arcata address (telephone: 707-822-7201).

SUPPLEMENTARY INFORMATION:

Background

Recovery of endangered or threatened animals and plants is a primary goal of our endangered species program and the Endangered Species Act (Act) (16 U.S.C. 1531 et seq.). A species is considered recovered when the species' ecosystem is restored and/or threats to the species are removed so that self-sustaining and self-regulating populations of the species can be supported as persistent members of native biotic communities. Recovery plans describe actions considered necessary for the conservation of the species, establish criteria for downlisting or delisting listed species, and estimate time and cost for implementing the measures needed for recovery.

The Act requires the development of recovery plans for listed species unless such a plan would not promote the conservation of a particular species. Section 4(f) of the Act requires that public notice and an opportunity for public review and comment be provided during recovery plan development. The draft recovery plan for Thlaspi californicum was available for public comment from October 9, 2002, through December 9, 2002, (67 FR 62979). We received and reviewed three comment letters on the draft recovery plan.

Thlaspi californicum is a perennial member of the mustard family (Brassicaceae), restricted to outcrops of serpentine substrate located in Kneeland Prairie, Humboldt County, California. It was federally listed as an endangered species on February 9, 2000 (65 FR 6332). Historical loss of the serpentine habitat, combined with the potential for future loss of habitat is the primary current threat to the species.

This recovery plan includes conservation measures designed to ensure that a self-sustaining population of Thlaspi californicum will continue to exist, distributed throughout its extant and historic range. Specific recovery actions focus on protection of the serpentine outcrops and surrounding oak woodland and grasslands. The recovery plan also addresses the need to re-establish multiple sexually reproducing colonies of Thlaspi californicum within the native serpentine plant community present in Kneeland Prairie. The ultimate objective of this recovery plan is to delist Thlaspi californicum through implementation of a variety of recovery measures including: (1) Protection of the extant population and its habitat, involving acquisition or other legal protective mechanism, monitoring, and coordination with the landowners; (2) research on the species biology and habitat requirements; (3) augmentation of existing colonies and establishment of new colonies; and (4) ex-situ conservation measures including artificial rearing and seed banking.

Authority

The authority for this action is section 4(f) of the Endangered Species Act, 16 U.S.C. 1533(f).

Dated: July 7, 2003.
Steve Thompson,
Manager, California/Nevada Operations Office, Region 1, Fish and Wildlife Service.

[FR Doc. 03-20707 Filed 8-13-03; 8:45 am]

BILLING CODE 4310-55-P